DEPARTMENT OF AGRICULTURE

Forest Service

RIN 0596-AB95

Forest Land Enhancement Program

AGENCY: Forest Service, USDA.

ACTION: Notice of issuance of interim directive; request for comment.

SUMMARY: In conjunction with an interim final rule published elsewhere in the same separate part of today's Federal Register, the Forest Service is issuing an interim directive to provide guidance to Forest Service employees for managing the Forest Land Enhancement Program (FLEP), which was authorized in the Farm Security and Rural Investment Act of 2002 (the 2002 Farm Bill). This interim directive is issued to the Forest Service Manual (FSM) Title 3300, Forestry Incentives, Chapter 3310, Cost-Sharing as ID 3310-2003-1. Comments received in response to this notice will be considered in development of the final directive.

DATES: This interim directive (ID 3310-2003-1) is effective on June 9, 2003. Comments must be received in writing by August 8, 2003.

ADDRESSES: Send written comments to Hal E. Brockman, Forest Service, Cooperative Forestry Staff, Mail Stop 1123, 1400 Independence Avenue, SW., Washington, DC 20250-1123; via electronic mail to hbrockman@fs.fed.us; or via facsimile to FLEP ID Comments at (202) 205-1271. The agency cannot confirm receipt of comments. A toll free number is available, 1-866-585-8540, for callers to record voice mail messages (up to 3 minutes long) with their comments on the interim directive. This toll free number will be active 24 hours a day during the comment period. Public comments submitted by voice mail will be transcribed for the public record. All comments, including names and addresses when provided, are placed in the record and are available for public inspection and copying. The public may inspect comments received on this interim directive during regular business hours at the office of the Cooperative Forestry Staff, 4th Floor SE., Yates Building, 201 14th Street, SW., Washington, DC. Visitors are encouraged to call ahead to (202) 205-1389 to facilitate entry into the building.

A copy of the Farm Security and Rural Investment Act of 2002, sections 8001 and 8002 (Pub. L. 107-171), and other information on this program can be found on the World Wide Web/Internet at http://www.fs.fed.us/spf/coop/flep.htm. A copy of the interim directive (ID 3310-2003-1) is available electronically at http://www.fs.fed.us/im/directives.htm.

FOR FURTHER INFORMATION CONTACT: Hal E. Brockman, Cooperative Forestry Staff, (202) 205-1694.

SUPPLEMENTARY INFORMATION: The Department is adopting an interim final rule to establish a new subpart C in part 230 of Title 36 of the Code of Federal Regulations (CFR) that sets forth requirements for the management and operation of the new Forest Land Enhancement Program (FLEP), which was authorized in the Farm Security and Rural Investment Act of 2002 (the 2002 Farm Bill). The notice setting out this interim final rule and requesting comment can be found elsewhere in this part of today's Federal Register. The FLEP interim final rule is intended to improve the long-term sustainability of nonindustrial private forest lands in the United States by assisting landowners, through State Foresters, in more actively managing their forest lands and related resources through the use of State, Federal, and private sector resource management expertise, financial assistance, and educational programs. In conjunction with this interim final rule, the agency is issuing an interim directive to Forest Service Manual Chapter 3310 (ID 3310-2003-1) to provide additional guidance to Forest Service employees in the administration of the FLEP. This interim directive is available electronically on the World Wide Web/Internet at the Web site address provided in the ADDRESSES section of this notice. Comments received on the interim directive will be used in the development of the final directive.

Dated: April 11, 2003.
Dale N. Bosworth,
Chief.

[FR Doc. 03-14334 Filed 6-6-03; 8:45 am]

BILLING CODE 3410-11-P